EXPORT-IMPORT BANK

Sunshine Act Meeting

ACTION: Notice of a Partially Open Meeting of the Board of Directors of the Export-Import Bank of the United States.

Time and Place: Friday, March 7, 2008 at 11 a.m. The meeting will be held at Ex-Im Bank in Room 1143, 811 Vermont Avenue, NW., Washington, DC 20571.

Open Agenda Items: Item No. 1: Local Cost Policy, OECD Rule Change.

Public Participation: The meeting will be open to public participation for Item No. 1 only.

FOR FURTHER INFORMATION CONTACT: For further information, contact: Office of the Secretary, 811 Vermont Avenue, NW., Washington, DC 20571 (Tele. No. 202-565-3957).

Howard A. Schweitzer,
General Counsel.

[FR Doc. 08-966 Filed 2-29-08; 3:43 pm]

BILLING CODE 6690-07-M